DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the west boundary, subdivisional lines, and the 1960-1968 fixed and limiting boundaries in sections 6, 7, 17, 18 and 20, and Tract 40, and the subdivision of sections 6, 7, 17 and 18, the survey of the 1993-2003 meanders of the Snake River in sections 6, 7, 17, 18 and 20, the survey of the 1993-2003 meanders of certain islands in the Snake River, and the metes-and-bounds survey of the centerline of an existing flood control levee in the SE¼ of the SW¼ of section 6, T. 4 N., R. 40 E., Boise Meridian, Idaho, was accepted June 6, 2007.

The plat representing the dependent resurvey of a portion of the east boundary and a portion of the subdivisional lines, and the subdivision of section 24, T. 16 S., R. 9 E., Boise Meridian, Idaho, was accepted June 29, 2007.

This survey was executed at the request of the Bureau of Indian Affairs to meet certain administrative and management purposes. The lands surveyed are:

This supplemental plat was prepared to amend lotting in section 24, T. 3 S., R. 34 E., Boise Meridian, Idaho, was accepted April 3, 2007.

These surveys were executed at the request of the USDA Forest Service to meet certain administrative and management purposes. The lands surveyed are:

This supplemental plat, showing amended lotting created by the segregation of Mineral Survey No. 1659 in section 15, T. 41 N., R. 2 W., Boise Meridian, Idaho, was accepted April 20, 2007.

This supplemental plat, was prepared to show new lots to the centerline of State Highway No. 6, of sections 12, 13, and 14, T. 43 N., R. 3 W., Boise Meridian, Idaho, was accepted April 26, 2007.

SUMMARY: The Bureau of Land Management (BLM) will file the plat of survey of the lands described below in the BLM Idaho State Office, Boise, Idaho, 30 days from the date of publication in the Federal Register. This survey was executed at the request of the Bureau of Indian Affairs to meet certain administrative and management purposes:

The plat representing the dependent resurvey of the south boundary, portions of the east and west boundaries, subdivisional lines, and meanders of the Snake River and islands in the Snake River, and the subdivision of sections 32 and 36, and the survey of portions of the south and west boundaries, subdivisional lines, the 2005-2006 meanders of the Snake River and islands in the Snake River, and the North Boundary of the Fort Hall Indian Reservation, T. 4 S., R. 33 E., Boise Meridian, Idaho, was accepted May 16, 2007.

Dated: July 3, 2007.
Stanley G. French,
Chief Cadastral Surveyor for Idaho.

[FR Doc. E7-13344 Filed 7-9-07; 8:45 am]

BILLING CODE 4310-GG-P